DEPARTMENT OF COMMERCE

National Oceanic and Atmospheric Administration

RIN 0648-XE919

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Skate Committee to consider actions affecting New England fisheries in the exclusive economic zone (EEZ). Recommendations from this group will be brought to the full Council for formal consideration and action, if appropriate.

DATES: This meeting will be held on Wednesday, October 19, 2016 at 9:30 a.m.

ADDRESSES: The meeting will be held at the Hilton Garden Hotel, One Thurber Street, Warwick, RI 02886; telephone: (401) 734-9600.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review and discuss the draft scoping document for the upcoming limited access amendment to the Northeast Skate Complex Fishery Management Plan. They will also develop recommendations for 2017 Council priorities as well as review and discuss 5 year research priorities for skates. Other business will be discussed. The Committee will also have a closed session to review Advisory Panel applications for 2018-20 and make recommendations for approval to the Council's Executive committee.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: September 28, 2016.
Tracey L. Thompson,
Acting Deputy Director, Office of Sustainable Fisheries, National Marine Fisheries Service.

[FR Doc. 2016-23814 Filed 9-30-16; 8:45 am]

BILLING CODE 3510-22-P